DEPARTMENT OF HEALTH AND HUMAN SERVICES

Centers for Disease Control and Prevention (CDC)

Board of Scientific Counselors, Coordinating Office for Terrorism Preparedness and Emergency Response: Notice of Charter Renewal

This gives notice under the Federal Advisory Committee Act (Pub. L. 92-463) of October 6, 1972, that the Board of Scientific Counselors, Coordinating Office for Terrorism Preparedness and Emergency Response, Department of Health and Human Services, has been renewed for a 2-year period through November 2, 2011.

For information, contact Barbara Ellis, PhD, Executive Secretary, Board of Scientific Counselors, Coordinating Office for Terrorism Preparedness and Emergency Response, Department of Health and Human Services, 1600 Clifton Road, M/S D44, Atlanta, Georgia 30341, telephone (404) 639-0637, or fax (404) 639-7977.

The Director, Management Analysis and Services Office, has been delegated the authority to sign Federal Register notices pertaining to announcements of meetings and other committee management activities, for both the CDC and the Agency for Toxic Substances and Disease Registry.

Dated: November 25, 2009.
Elaine L. Baker,
Director, Management Analysis and Services Office, Centers for Disease Control and Prevention.

[FR Doc. E9-29096 Filed 12-4-09; 8:45 am]

BILLING CODE 4163-18-P